DEPARTMENT OF COMMERCE

National Institute of Standards and Technology

National Conference on Weights and Measures Interim Meeting

AGENCY: National Institute of Standards and Technology, Commerce.

ACTION: Notice.

SUMMARY: The Interim Meeting of the National Conference on Weights and Measures (NCWM) will be held in San Antonio, Texas, from Sunday, January 8, 2017, through Wednesday, January 11, 2017. This notice contains information about significant items on the NCWM Committee agendas but does not include all agenda items. As a result, the items are not consecutively numbered.

DATES: The meeting will be held from Sunday, January 8, 2017, through Wednesday, January 11, 2017, Sunday through Tuesday from 8:00 a.m. to 5:00 p.m. Central Time, and on Wednesday, from 9:00 a.m. to 12:00 p.m. Central Time. The meeting schedule is available at www.ncwm.net.

ADDRESSES: This meeting will be held at the Hyatt Regency San Antonio, 123 Losoya Street, San Antonio, Texas 78205.

FOR FURTHER INFORMATION CONTACT: Mr. Kenneth Butcher, NIST, Office of Weights and Measures, 100 Bureau Drive, Stop 2600, Gaithersburg, MD 20899-2600. You may also contact Mr. Butcher at (301) 975-4859 or by email at kenneth.butcher@nist.gov. The meeting is open to the public, but a paid registration is required. Please see the NCWM Web site (www.ncwm.net) to view the meeting agendas, registration forms, and hotel reservation information.

SUPPLEMENTARY INFORMATION: Publication of this notice on the NCWM's behalf is undertaken as a public service; NIST does not endorse, approve, or recommend any of the proposals or other information contained in this notice or in the publications produced by the NCWM.

The NCWM is an organization of weights and measures officials of the states, counties, and cities of the United States, federal agencies, and representatives from the private sector. These meetings bring together government officials and representatives of business, industry, trade associations, and consumer organizations on subjects related to the field of weights and measures technology, administration, and enforcement. NIST participates to encourage cooperation between federal agencies and the states in the development of legal metrology requirements. NIST also promotes uniformity among the states in laws, regulations, methods, and testing equipment that comprise the regulatory control of commercial weighing and measuring devices, packaged goods, and other trade and commerce issues.

The following are brief descriptions of some of the significant agenda items that will be considered at the NCWM Interim Meeting. Comments will be taken on these and other issues during several public comment sessions. At this stage, the items are proposals. This meeting also includes work sessions in which the Committees may also accept comments, and where recommendations will be developed for consideration and possible adoption at the NCWM 2017 Annual Meeting. The Committees may withdraw or carryover items that need additional development.

Some of the items listed below provide notice of projects under development by groups working to develop specifications, tolerances, and other requirements for devices such as those used in weigh-in-motion systems for vehicle enforcement screening. These notices are intended to make interested parties aware of these development projects and to make them aware that reports on the status of the project will be given at the Interim Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of products or services sold among businesses. Issues on the agenda of the NCWM Laws and Regulations Committee (L&R Committee) relate to proposals to amend NIST Handbook 130, “Uniform Laws and Regulations in the area of Legal Metrology and Engine Fuel Quality” and NIST Handbook 133, “Checking the Net Contents of Packaged Goods.”

NCWM S&T Committee

The following items are proposals to amend NIST Handbook 44:

General Code

Item 3100-2 G-UR.3.3. Postion of Equipment

A weighing and measuring device or system equipped with a primary indicating element and used in a direct sale application must be positioned that its indication can be accurately read and the weighing or measuring operation observed from some reasonable customer and operator position. That is, both the customer and user must be able to observe the operation of the equipment and be provided a view of the indication from some reasonable position. The existing paragraph provides officials the discretion necessary to determine on a case by case basis whether or not these conditions are satisfied. The proposed changes, if adopted, would require officials to base their determination solely on customer readability and ease of being able to conduct a performance test on the equipment. Additionally, in the case of vehicle scales, the changes proposed require that a driver of a vehicle being weighed be able to observe the weight indication from inside the cab of the vehicle. If adopted, this would retroactively require a display on some vehicle scale systems, including mechanical types with beam or dial indication.

Scales

Item 3200-2 S.1.2.2. Verfication Scale Interval

Class I and II scales and dynamic monorail scales, any of which that are provided with a scale division value (d) that differs from the verification scale interval (e) must currently comply with the expression: d < e ≤ 10 d

The S&T Committee will consider a proposal that adds a new subparagraph beneath the Section heading S.1.2.2. Verification Scale Interval which would require the value of “e” to be less than or equal to “d” on Class I and II scales used in a direct sale application (i.e., an application in which both parties, for example, buyer and seller, are present when the quantity is determined). The new subparagraph being proposed is nonretroactive with no enforcement date yet specified, making evident the submitter's intention that it not apply to equipment already in commercial service.

Item 3200-3 S.1.8.5. Recorded Representations, Point-of-Sale Systems and S.1.9.3. Recorded Representations, Random Weight Packages Labels

The S&T Committee will consider a proposal requiring additional sales information be recorded by cash registers interfaced with a weighing element for items that are weighed at a checkout stand. These systems are currently required to record the net weight, unit price, total price, and the product class or, in a system equipped with price look-up capability, the product name or code number. The change proposed adds “gross weight or tare weight” to the list of sales information already required.

Additionally, the proposal adds a new paragraph requiring a prepackaging scale or device that produces a label for a random weight package to generate labels that contain this same sales information.

Weigh-In-Motion Systems Used for Vehiche Enforcement Screening

Item 3205-1 A. Application and Sections Throughout the Code to Address Commercial and Law Enforcement Applications

In February 2016, the NCWM formed a new task group (TG) to consider a proposal to expand the NIST Handbook 44, Weigh-In-Motion (WIM) Systems Used for Vehicle Enforcement Screening—Tentative Code to also apply to legal-for-trade (commercial) and law enforcement applications. The TG is made up of representatives of WIM equipment manufacturers; the U.S. Department of Transportation Federal Highway Administration; truck weight enforcement agencies; state weights and measures agencies; and others. Mr. Alan Walker (State of Florida) serves as Chair of the TG.

Members of the TG met face to face for the first time at the NCWM Annual Meeting in July 2016. It was agreed at that meeting to eliminate from the proposal any mention of a law enforcement application and focus solely on WIM systems intended for use in commercial applications. The main focus of the TG since the July 2016 meeting has been to concentrate on the development of test procedures that can be used to verify the accuracy of a slow-speed WIM system while taking into consideration the different axle and tandem axle configurations of the vehicles that will typically be weighed by the system.

Liquefied Petroleum Gas and Anhydrous Ammonia Liquid-Measuring Devices

Item 3302-1 N.3. Test Drafts

The S&T Committee will continue to hear updates on the progress of a “Developing” item on its agenda (carried over from its 2016 agenda) that would propose recognizing the use of calibrated transfer standards (also called “master meters”) in the verification and calibration of Liquefied Petroleum Gas and Anhydrous Ammonia Liquid-Measuring Devices. Currently, most official tests of these devices are conducted using volumetric test measures or using gravimetric testing. The proposal outlined in this item includes requirements for a minimum test draft and would recognize the use of “master meters” in both service-related and official testing. This item is also intended to explore the possibility of expanding the use of transfer standards to other types of measuring devices, including those used to measure petroleum at terminals and retail outlets, and to meters used to deliver home heating fuel and other products.

Mass Flow Meters

Item 3307-2 N.3. Test Drafts

The S&T Committee will continue to hear updates on the progress of a “Developing” item on its agenda (also carried over from its 2016 agenda) that would propose recognizing the use of calibrated transfer standards (also called “master meters”) in the verification and calibration of Mass Flow Meters. Currently, most official tests of these devices are conducted using gravimetric test procedures. The proposal outlined in this item includes requirements for a minimum test draft, and would recognize the use of “master meters” in both service-related and official testing.

Taximeters

Item 3504-1 A.2. Exemptions;

Item 3504-2 U.S. National Work Group (USNWG) on Taximeters—Taximeter Code Revisions and Global Positioningt System (GPS)-Based Systems for Time and Distance Measurement; and

Item 3600-6 5.XX. Transportation Network Systems—Tentative Code and Appendix D. Definitions

For several years, the NIST USNWG on Taximeters has discussed possible approaches for amending the NIST Handbook 44, Taximeters Code to specifically recognize GPS-based time and distance measuring systems that are used to assess charges for transportation services such as those provided by taxicabs and limousines. Appropriate specifications, tolerances, and other technical requirements for these devices must be developed for manufacturers and users of these devices, as well for weights and measures officials. Such requirements help ensure accuracy and transparency for customers and a level playing field for transportation service companies, enabling consumers to make value comparisons between competing services. In 2016, the USNWG on Taximeters submitted a proposal through multiple regional weights and measures associations to establish a separate NIST Handbook 44 code to address “Transportation Network Measurement Systems (TNMS).” Changes to the current NIST Handbook 44, Taximeters Code are also needed to recognize taximeters that are now being designed to operate using similar features and functionality as TNMS; these changes have been proposed in a separate item. The S&T Committee will examine these proposals to assess how to best address these systems.

NCWM L&R Committee

The following items are proposals to amend NIST Handbook 130 or NIST Handbook 133:

NIST Handbook 130—Section on Uniform Regulation for the Method of Sale of Commodities:

Item 2302-6 Section 2.17. Precious Metals

The L&R Committee will consider a proposal to recommend adoption of a uniform method of sale for precious metals that will enhance the ability of consumers to whether they are getting a fair price for their precious metals. This proposal will allow a consumer to make an informed decision in doing an equitable trade or purchase and also make value comparisons. This proposal is not for precious metals traded on the commodity market. If adopted, the proposal will require sellers to prominently display conversion factors and the unit price they will pay for items containing various amounts of precious metals.

NIST Handbook 133—“Checking the Net Contents of Packaged Goods:”

Item 2600-4 Section 4.5. Polyethylene Sheeting

The current test procedure in NIST Handbook 133, Section 4. Polyethylene Sheeting has provided a test procedure for only polyethylene sheeting and some bag type products. The L&R Committee will consider a proposal to expand the requirements to also include polyethylene bags (e.g., t-shirt bags that retail stores put consumer goods in for carry-out) and can liners. If adopted, this proposal would clarify the test procedure and improve the accuracy of length determinations when determining test measurements for bags and liners, including bags with a cut out (t-shirt bags).

Authority: 15 U.S.C. 272(b).

Kevin Kimball,
NIST Chief of Staff.

[FR Doc. 2016-30436 Filed 12-16-16; 8:45 am]

BILLING CODE 3510-13-P